DEPARTMENT OF COMMERCE

National Oceanic and Atmospheric Administration

RIN 0648-XD224

Marine Mammals; File No. 18537

AGENCY: National Marine Fisheries Service (NMFS), National Oceanic and Atmospheric Administration (NOAA), Commerce.

ACTION: Notice; issuance of permit amendment.

SUMMARY: Notice is hereby given that a major amendment to Permit No. 18537 has been issued to the Alaska Department of Fish and Game (ADF&G), Division of Wildlife Conservation, Juneau, AK [Responsible Party: Robert Small, Ph.D.].

ADDRESSES: The permit amendment and related documents are available for review upon written request or by appointment in the Permits and Conservation Division, Office of Protected Resources, NMFS, 1315 East-West Highway, Room 13705, Silver Spring, MD 20910; phone (301) 427-8401; fax (301) 713-0376.

FOR FURTHER INFORMATION CONTACT: Rosa L. González or Amy Sloan, (301) 427-8401.

SUPPLEMENTARY INFORMATION: On February 8, 2016, notice was published in the Federal Register (81 FR 6508) that a request for an amendment Permit No. 18537 to conduct research on pinnipeds had been submitted by the above-named applicant. The requested permit amendment has been issued under the authority of the Marine Mammal Protection Act of 1972, as amended (16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The original permit (No. 18537), issued on August 8, 2014 (79 FR 19578), authorized ADF&G to take Steller sea lions (Eumetopias jubatus) during aerial, vessel, and ground surveys in support of the long-term Steller sea lion research program. It also authorized incidental disturbance of California sea lions (Zalophus californianus), and northern fur (Callorhinus ursinus), harbor (Phoca vitulina), spotted (Phoca largha), ribbon (Histriophoca fasciata), ringed (Phoca hispida hispida), and bearded (Erignathus barbatus) seals during research activities; and, annual unintentional mortality of 5 Steller sea lions from the Western Distinct Population Segment (wDPS) and 10 Steller sea lions from the Eastern DPS through August 31, 2019.

Permit No. 18537-01 authorizes an increase in the number of California and Steller (wDPS) sea lions taken during aerial surveys from 4,725 to 10,000, and from 48,000 to 75,000, respectively; and an increase in the volume on a single blood draw from Steller sea lions from up to 1ml/kg to up to 4ml/kg.

In compliance with the National Environmental Policy Act of 1969 (42 U.S.C. 4321 et seq.), NMFS determined that the activities proposed are consistent with the Preferred Alternative in the 2007 Final Programmatic Environmental Impact Statement (PEIS) for Steller Sea Lion and Northern Fur Seal Research, and the 2014 Environmental Assessment for Issuance of Permits to take Steller Sea Lions by harassment during surveys using unmanned aerial systems that analyzed the effects of UAS, which were not considered in the initial PEIS; and that issuance of the permit would not have a significant adverse impact on the human environment.

As required by the ESA, issuance of this permit was based on a finding that such permit: (1) Was applied for in good faith; (2) will not operate to the disadvantage of such endangered species; and (3) is consistent with the purposes and policies set forth in section 2 of the ESA.

Dated: April 5, 2016.
Julia Harrison,
Chief, Permits and Conservation Division, Office of Protected Resources, National Marine Fisheries Service.

[FR Doc. 2016-08169 Filed 4-8-16; 8:45 am]

BILLING CODE 3510-22-P